FEDERAL COMMUNICATIONS COMMISSION

47 CFR Part 54

[WC Docket No. 05-195; WC Docket No. 03-109; FCC 07-150]

Universal Service Support for Low-Income Consumers; Correction

AGENCY: Federal Communications Commission.

ACTION: Correcting amendments.

SUMMARY: The Federal Communications Commission published a document in the Federal Register on Monday, September 24, 2007 (72 FR 54214), revising Commission rules pertaining to the recordkeeping requirements for eligible telecommunications carriers (ETCs) receiving Universal Service low-income support. That document inadvertently deleted a sentence from 47 CFR 54.417(a). This document corrects the final regulation by revising this section.

DATES: Effective on March 29, 2010.

FOR FURTHER INFORMATION CONTACT: Jamie Susskind, Wireline Competition Bureau, Telecommunications Access Policy Division at (202) 418-7400 (voice), (202) 418- 0484 (TTY), or e-mail at Jamie.Susskind@fcc.gov.

SUPPLEMENTARY INFORMATION:

Background

In a Report and Order (FCC 07-150), the Commission adopted measures to safeguard the Universal Service Fund (“USF”) from waste, fraud, and abuse. Among other actions taken in the Report and Order, the Commission revised the requirement that ETCs maintain certain documentation as long as the consumer receives Lifeline service from the ETC or until the ETC is audited by the Universal Service Administrative Company (“USAC”).

Need for Correction

As published, the final regulation inadvertently omitted a sentence from 47 CFR 54.417(a). This error needs to be corrected.

List of Subjects in 47 CFR Part 54

Communications common carriers, Infants and children, Reporting and recordkeeping requirements, Telecommunications, Telephone.

Federal Communications Commission.
Gloria J. Miles,
Federal Register Liaison.

Accordingly, 47 CFR part 54 is corrected by making the following correcting amendments:

PART 54—UNIVERSAL SERVICE

1. The authority citation for part 54 continues to read as follows:

Authority: 47 U.S.C. 151, 154(i), 201, 205, 214, and 254 unless otherwise noted.

2. In § 54.417, revise paragraph (a) to read as follows:

§ 54.417 Recordkeeping requirements.

(a) Eligible telecommunications carriers must maintain records to document compliance with all Commission and state requirements governing the Lifeline/Link Up programs for the three full preceding calendar years and provide that documentation to the Commission or Administrator upon request. Notwithstanding the preceding sentence, eligible telecommunications carriers must maintain the documentation required in §§ 54.409(d) and 54.410(b)(3) for as long as the consumer receives Lifeline service from that eligible telecommunications carrier. If an eligible telecommunications carrier provides Lifeline discounted wholesale services to a reseller, it must obtain a certification from that reseller that it is complying with all Commission requirements governing the Lifeline/Link Up programs.

* * * * *

[FR Doc. 2010-6968 Filed 3-26-10; 8:45 am]

BILLING CODE P